DEPARTMENT OF HEALTH AND HUMAN SERVICES

Centers for Disease Control and Prevention

Advisory Committee on Immunization Practices

In accordance with section 10(a)(2) of the Federal Advisory Committee Act (Pub. L. 92-463), the Centers for Disease Control and Prevention (CDC) announces the following teleconference.

Name: Advisory Committee on Immunization Practices (ACIP).

Time and Date: 2 p.m.-4 p.m., May 4, 2006.

Place: National Immunization Program (NIP), Atlanta, Georgia. To participate, please call 1-888-769-8923, pass code 3537839.

Status: Open to the public, limited only by the availability of telephone ports.

Purpose: The committee is charged with advising the Director, CDC, on the appropriate uses of immunizing agents. In addition, under 42 U.S.C. 1396s, the committee is mandated to establish and periodically review and, as appropriate, revise the list of vaccines for administration to vaccine-eligible children through the Vaccines for Children (VFC) program, along with schedules regarding the appropriate periodicity, dosage, and contraindications applicable to the vaccines.

Matters To Be Discussed: Varicella vaccination policy options.

This notice is being published less than 15 days as provided under 41 CFR 102-3.150(b), the public health urgency of this agency business requires that the teleconference be held prior to the first available date for publication of this notice in the Federal Register.

Contact Person for More Information: Demetria Gardner, Epidemiology and Surveillance Division, National Immunization Program, CDC, 1600 Clifton Road, NE, Mail Stop E-61, Atlanta, Georgia 30333, telephone 404-639-8096, fax 404-639-8616.

The Director, Management Analysis and Services Office, has been delegated the authority to sign Federal Register notices pertaining to announcements of meetings and other committee management activities for both the CDC and the Agency for Toxic Substances and Disease Registry.

Dated: April 20, 2006.
Alvin Hall,
Director, Management Analysis and Services Office, Centers for Disease Control and Prevention.

[FR Doc. 06-3987 Filed 4-25-06; 8:45 am]

BILLING CODE 4163-18-P